COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List services to be furnished by nonprofit agencies employing persons who are blind or have other severe disabilities.

EFFECTIVE DATE: December 12, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On August 25 and September 15, 2000 the Committee for Purchase From People Who Are Blind or Severely Disabled published notices (65 FR 51794 and 55938) of proposed additions to the Procurement List.

Additions

The following comments pertain to Mailroom Operation/Messenger Service, Peace Corps, Washington, DC: Comments were received from the current contractor for this mail operations service. The contractor stated that its staff providing this service are local minority persons, most of whom are the sole support of their families. The contractor indicated that these persons would probably be laid off, as the contractor is uncertain it can replace the work being lost. The contractor also indicated that this service and two other contracts expiring this year represent a significant portion of its business.

According to information the contractor gave the Committee, the portion of its total sales represented by this service does not reach a percentage which the Committee would consider to constitute severe adverse impact on a contractor. The contractor has not provided any information which would indicate, particularly in the current good economy, that the uncertainty of its ability to replace other contracts expiring this year should cause the Committee to give more weight to the impact this Procurement List addition will have on the contractor. Consequently, the Committee does not believe this addition will have a severe adverse impact on the contractor.

The nonprofit agency which will perform this service plans to retain approximately half the contractor's current work force. The nonprofit agency also plans to employ more workers with severe disabilities than contractor workers that will be displaced. Because the unemployment rate for people with severe disabilities remains far above that of the workers being displaced, the Committee believes the contractor workers are more likely to find other employment than the people with severe disabilities would find if this service were not added to the Procurement List.

The following material pertains to all of the items being added to the Procurement List: After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Services

Mailroom Operation/Messenger Service

U.S. Peace Corps Headquarters, 1111 20th Street, NW, Washington, DC

Mailroom Operation

New Orleans Strategic Petroleum Reserve (SPR) Site, New Orleans, Louisiana

Switchboard Operation

Department of Justice, FBI Academy, Quantico, Virginia

This action does not affect current contracts awarded prior to the effective date of this addition or options that may be exercised under those contracts.

Louis R. Bartalot,
Deputy Director (Operations).

[FR Doc. 00-29000 Filed 11-9-00; 8:45 am]

BILLING CODE 6353-01-P